DEPARTMENT OF ENERGY

Federal Energy Regulatory Commission

[Docket No. EL18-21-000]

Alabama Power Company; Notice of Institution of Section 206 Proceeding and Refund Effective Date

On October 25, 2017, the Commission issued an order in Docket No. EL18-21-000, pursuant to section 206 of the Federal Power Act (FPA), 16 U.S.C. 824e (2012), instituting an investigation into whether Southern Companies' ¹ market-based rate authority in the South Carolina Electric and Gas Co., City of Tallahassee, and Santee Cooper balancing authority areas may be unjust, unreasonable, unduly discriminatory or preferential. Alabama Power Company, 161 FERC 61,102 (2017).

¹ Southern Companies include the following: Alabama Power Company; Southern Power Company; Mississippi Power Company; Georgia Power Company; Gulf Power Company; Oleander Power Project, Limited Partnership; Southern Company—Florida LLC; and Mankato Energy Center, LLC.

The refund effective date in Docket No. EL18-21-000, established pursuant to section 206(b) of the FPA, will be the date of publication of this notice in the Federal Register.

Any interested person desiring to be heard in Docket No. EL18-21-000 must file a notice of intervention or motion to intervene, as appropriate, with the Federal Energy Regulatory Commission, 888 First Street NE., Washington, DC 20426, in accordance with Rule 214 of the Commission's Rules of Practice and Procedure, 18 CFR 385.214, within 21 days of the date of issuance of the order.

Dated: October 26, 2017.
Nathaniel J. Davis, Sr.,
Deputy Secretary.

[FR Doc. 2017-23779 Filed 10-31-17; 8:45 am]

BILLING CODE 6717-01-P